DEPARTMENT OF HOMELAND SECURITY

[Docket No. DHS-2010-0020]

Homeland Security Science and Technology Advisory Committee

AGENCY: Science and Technology Directorate, DHS.

ACTION: Committee Management; Notice of Closed Federal Advisory Committee Meeting.

SUMMARY: On April 12, 2010, the Homeland Security Science and Technology Advisory Committee announced in the Federal Register that the Committee would meet on April 20-22, 2010 in Frederick, MD. This notice supplements that original meeting notice.

DATES: The Homeland Security Science and Technology Advisory Committee met on April 20, 2010 from 8:30 a.m. to 5 p.m., April 21, 2010 from 9 a.m. to 5 p.m. and on April 22, 2010 from 9:30 a.m. to 1 p.m.

ADDRESSES: The meeting was held at the National Biodefense Analysis and Countermeasures Center, 110 Thomas Johnson Drive, Suite 400, Frederick, MD 21702.

FOR FURTHER INFORMATION CONTACT: Ms. Tiwanda Burse, Science and Technology Directorate, Department of Homeland Security, 245 Murray Lane, Bldg. 410, Washington, DC 20528, 202-254-6877.

SUPPLEMENTARY INFORMATION: Notice of this meeting is given under the Federal Advisory Committee Act, 5 U.S.C. App. (Pub. L. 92-463).

The mission of the Homeland Security Science and Technology Advisory Committee is to provide a source of independent scientific and technical planning advice for the Under Secretary of Homeland Security for Science and Technology.

The Homeland Security Science and Technology Advisory Committee met for the purpose of receiving sensitive and classified (Secret-level) briefings and presentations regarding relationships between Science & Technology and selected National Biodefense Analysis and Countermeasures related topics, which are matters relevant to homeland security. The meeting was closed to the public.

The Federal Advisory Committee Act requires that notices of meetings of advisory committees be announced in the Federal Register 15 days prior to the meeting date. A notice of the meeting of the Homeland Security Science and Technology Advisory Committee was published in the Federal Register on April 12, 2010, 8 days prior to the meeting due to unavoidable delays in finalizing the agenda.

Dated: May 10, 2010.
Ervin Kapos,
Designated Federal Officer.

[FR Doc. 2010-12090 Filed 5-19-10; 8:45 am]

BILLING CODE 9110-9F-P